DEPARTMENT OF ENERGY

Federal Energy Regulatory Commission

[Docket No. CP03-327-000]

Southern Natural Gas Company; Notice of Request Under Blanket Authorization

June 27, 2003.

Take notice that on June 20, 2003, Southern Natural Gas Company (Southern), P.O. Box 2563, Birmingham, Alabama, filed a request pursuant to Sections 157.205, 157.208(b)(2) and 157.211(a)(2) of the Federal Energy Regulatory Commission*s (Commission) Regulations under the Natural Gas Act (NGA), as amended, and blanket certificate authority granted September 1, 1982, in Docket No. CP82-406-000, 20 FERC ¶ 62,414 for authorization to construct and operate a new delivery point to Tamko Roofing Products, Inc. (Tamko) in Tuscaloosa County, Alabama, all as more fully set forth in the request, which is on file with the Commission, and open for public inspection. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676 or for TTY, contact (202) 502-8659.

Southern proposes to construct and operate certain measurement and other appurtenant facilities to provide up to 1,800 Mcf/day of transportation service for Tamko, under Southern's Rate Schedule IT. Service to the Tamko Plant will be provided at a new delivery point to be located at approximately Mile Post 20.625 on Southern's 12-inch Montgomery-Columbus Line in Tuscaloosa County, Alabama. Southern and Tamko have complied with all of the requirements under Section 36 of the General Terms and Conditions of Southern's FERC Gas Tariff, 7th Revised Volume No. 1 for the installation of the direct delivery connection by Southern. Tamko will reimburse Southern for the estimated $235,100 cost of constructing and installing the proposed facilities pursuant to an executed Construction and Reimbursement Agreement dated May 30, 2003.

Southern states that the installation of the proposed facilities will have no adverse effect on its ability to provide its firm deliveries. Any questions regarding this filing should be directed to John Griffin, Senior Counsel, Southern Natural Gas Company, P.O. Box 2563, Birmingham, Alabama 35202-2563 or call 205-325-7133.

Any person or the Commission's staff may, within 45 day after issuance of the instant notice by the Commission, file pursuant to Rule 214 of the Commission's Procedural Rules (18 CFR 385.214) a motion to intervene or notice of intervention and pursuant to section 157.205 of the Regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Comments, protests and interventions may be filed electronically via the Internet in lieu of paper; see 18 CFR 385.2001(a)(1)(iii) and the instructions on the Commission's Web site under the “e-Filing” link. The Commission strongly encourages electronic filings.

Magalie R. Salas,
Secretary.

[FR Doc. 03-16852 Filed 7-2-03; 8:45 am]

BILLING CODE 6717-01-P